DEPARTMENT OF STATE

22 CFR Part 11

[Public Notice 4065]

RIN 1400-AB-42

Waivers of the Worldwide Availability Requirement for Foreign Service Candidates

AGENCY: Department of State.

ACTION: Final rule.

SUMMARY: This Final Rule amends the regulations on the appointment of Foreign Service Officers to allow the Director General (DG) of the Foreign Service, or the Director General's delegatee, to review the case of a Department of State Foreign Service candidate who has been denied an unlimited medical clearance for assignment worldwide to determine whether or not it is in the best interest of the Service to appoint the candidate despite the medical disqualification. This decision, as to whether or not to grant a waiver of the Foreign Service worldwide availability requirement, was previously made by a committee created solely for that purpose. The shifting of this decision to the Director General, or the Director General's delegatee, in no way alters the rights or interests of any parties, nor does it alter the substantive criteria by which a decision whether or not to waive the worldwide availability requirement will be made. As with the committee's decisions at present, the decisions of the Director General, or the Director General's delegatee, will be final and will not be subject to further appeal.

In addition, while candidates must still be medically cleared for full overseas duty, the Department of State no longer considers the medical condition of eligible family members for pre-employment purposes. References to previous practices in this regard are therefore being removed as are references to the procedures of the former United States Information Agency.

DATES: This rule is effective August 12, 2002.

FOR FURTHER INFORMATION CONTACT: Elizabeth Amory, Office of the Legal Adviser, 202-647-4646.

SUPPLEMENTARY INFORMATION: When requested and authorized by the candidate, the Director General of the Foreign Service, or the Director General's delegatee, will review the case of any Department of State Foreign Service candidate who has been denied an unlimited medical clearance for assignment worldwide and will determine whether or not it is in the best interest of the Service to appoint the candidate despite the medical disqualification. This decision, as to whether or not to grant a waiver of the Foreign Service worldwide availability requirement, was previously made by a committee established solely for that purpose. The shifting of responsibility for this decision to the Director General, or the Director General's delegatee, is being made in appreciation of the magnitude of such decisions for the Service and as part of a general effort to increase the efficiency and transparency of the Foreign Service appointment process. This change in no way alters the rights or interests of any parties nor does it alter the substantive criteria by which a decision whether or not to waive the worldwide availability requirement will be made. As with the committee's decisions, the decisions of the Director General, or the Director General's delegatee, are final and are not subject to further appeal.

In addition, while candidates must still be medically cleared for full overseas duty, the Department of State no longer considers the medical condition of eligible family members for pre-employment purposes. References in 22 CFR § 11.1 (e)(4) to previous practices in this regard are hereby removed and the citation to the Foreign Affairs Manual has been updated. It should be noted, however, that the Department still requires medical clearances for family members before they can travel overseas to accompany an employee on assignment at US Government expense. Finally, references in 22 CFR Part § 11.1(e)(5) to the procedures of the former United States Information Agency are hereby removed pursuant to the Foreign Affairs Reform and Restructuring Act of 1998.

List of Subjects in 22 CFR Part 11

Foreign Service.

As stated in the preamble, the Department of State amends 22 CFR part 11 as follows:

PART 11—APPOINTMENT OF FOREIGN SERVICE OFFICERS

1. The authority citation for part 11 is revised to read as follows:

Authority: 22 U.S.C. 3926, 3941.

2. Amend § 11.1 to revise paragraphs (e)(4) and (5) and the second sentence in paragraph (f) as follows:

§ 11.1 Junior Foreign Service officer career candidate appointments.

* * * * *

(e) * * *

(4) Determination. The Medical Director of the Department of State will determine, on the basis of the report of the physician(s) who conducted the medical examination, whether the candidate has met the required medical standards for appointment (see section 1930, Volume 3, Foreign Affairs Manual).

(5) Waiver of worldwide availability requirement. When authorized and requested by the candidate, the Director General of the Foreign Service, or the Director General's delegatee, will review the case of any Department of State Foreign Service candidate who has been denied an unlimited medical clearance for assignment worldwide, and determine whether or not the candidate should be appointed despite the medical disqualification. Decisions of the Director General of the Foreign Service, or the Director General's delegatee, are final and are not subject to further appeal by the candidate.

(f) * * * Candidates who have completed the examination process; have passed their medical examination, or have obtained a waiver from the Director General of the Foreign Service, or his or her delegatee, or the equivalent in accordance with the procedures of the other participating agencies; and on the basis of their background investigation, have been found suitable to represent the United States abroad, will have their names placed on the functional rank-order register(s), or a special register, for the agency or agencies for which they have been found qualified. * * *

* * * * *

Grant S. Green, Jr.,
Under Secretary for Management, Department of State.

[FR Doc. 02-17585 Filed 7-11-02; 8:45 am]

BILLING CODE 4710-35-P